DEPARTMENT OF COMMERCE

National Oceanic and Atmospheric Administration

RIN 0648-XG145

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Thursday, April 26, 2018 at 9 a.m.

ADDRESSES: The meeting will be held at the Fairfield Inn & Suites, 185 MacArthur Drive, New Bedford, MA 02740; phone: (774) 634-2000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review detailed information to support development of exemption area alternatives in the clam dredge framework, including Plan Development Team (PDT) advice and analysis, as well as advice from a Scientific and Statistical Committee review panel on use of two Science Center for Marine Fisheries reports. They will also discuss any exemption area alternatives recommended by the Habitat Advisory Panel on April 3, including initial PDT evaluation. The Committee plans to recommend exemption alternatives for further analysis. These could include Advisory Panel proposals, or refinements thereof, Committee-generated proposals, and/or specific design criteria to be used by the PDT to define or refine exemption areas. They will also discuss mussel dredge fishery exemptions if necessary given the outcome of the April 17 Council discussion. They will receive briefings on offshore energy projects from developers, with a focus on offshore wind projects off MA and NY. Develop Council comments to the Bureau of Ocean Energy Management in response to any open notices, including the Notice of Intent to prepare an Environmental Impact Statement for the Vineyard Wind project. Discuss other business as needed.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. Consistent with 16 U.S.C. 1852, a copy of the recording is available upon request.

Authority: 16 U.S.C. 1801 et seq.

Dated: April 3, 2018.
Tracey L. Thompson,
Acting Deputy Director, Office of Sustainable Fisheries, National Marine Fisheries Service.

[FR Doc. 2018-07040 Filed 4-5-18; 8:45 am]

BILLING CODE 3510-22-P